DEPARTMENT OF COMMERCE

National Oceanic and Atmospheric Administration

[I.D. 041702A]

Marine Mammals; Permits 781-1666 and 782-1645-01

AGENCY: National Marine Fisheries Service (NMFS), National Oceanic and Atmospheric Administration (NOAA), Commerce.

ACTION: Receipt of Application No. 781-1666 and receipt of application to amend Permit No. 782-1645.

SUMMARY: Notice is hereby given of the following actions regarding permits for takes of marine mammal species for the purposes of scientific research: NMFS has received a permit application from NMFS, Northwest Fisheries Science Center, 2725 Montlake Blvd. E, Seattle, WA 98112-2097 (Dr. Cynthia Tynan, Principal Investigator) (Application No. 781-1666), and NMFS has received an application for a permit amendment from NMFS, National Marine Mammal Laboratory, 7600 Sand Point Way, N.E., BIN C15700, Seattle, WA 98115-0070 (Dr. Robert DeLong, Principal Investigator) (Permit No. 782-1645).

DATES: Written or telefaxed comments on the new application or amendment request must be received on or before May 28, 2002.

ADDRESSES: Written comments on the new application or amendment request should be sent to the appropriate office as indicated below. Comments may also be sent via fax to the number indicated for the application or amendment request. Comments will not be accepted if submitted via e-mail or the internet. The application and related documents are available for review upon written request or by appointment in the following office(s):

For permits 781-1666, 782-1645-01: Northwest Region, NMFS, 7600 Sand Point Way NE, BIN C15700, Bldg. 1, Seattle, WA 98115-0700; phone (206)526-6150; fax (206)526-6426;

For permit 781-1666: Southwest Region, NMFS, 501 West Ocean Blvd., Suite 4200, Long Beach, CA 90802-4213; phone (562)980-4001; fax (562)980-4018; and

Documents may also be reviewed by appointment in the Permits Conservation and Education Division, Office of Protected Resources, NMFS, 1315 East-West Highway, Room 13705, Silver Spring, MD 20910; phone (301)713-2289; fax (301)713-0376.

Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on this particular request would be appropriate.

FOR FURTHER INFORMATION CONTACT: Ruth Johnson or Carrie Hubard, (301) 713-2289.

SUPPLEMENTARY INFORMATION: The subject permit and permit amendment are requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR parts 222-227), and the Fur Seal Act of 1966, as amended (16 U.S.C. 1151 et seq.).

For Application No. 781-1666, the applicant requests permission to conduct shipboard line-transect surveys of marine mammals in U.S. waters of the North Pacific. The applicant proposes to take various species of cetaceans and five species of pinnipeds via harassment during photo-identification from small boats or larger research vessels, line-transect surveys from ships, and collection of prey near cetaceans. Cetacean prey will be collected via dip nets and towed zooplankton nets. The goal of this research is to provide temporal (seasonal) and spatial (mesoscale and fine-scale) variability in euphasiid and forage fish occurrence patterns necessary to identify the important bio-physcial linkages between top-predator distributions and the density and availability of their prey. Line-transect data will also provide updated abundance estimates.

For amendment to permit 782-1645-00: The permit authorizes the Holder to take up to 15 harbor porpoise (Phocoena phocoena) annually (not to exceed 75 over a 5-year period) in the waters of Oregon and Washington, attach radio-telemetry devices to monitor the movements of tagged animals relative to current stock boundaries, and to collect blubber biopsies to determine organochlorine contaminant burdens.

The Holder now proposes to capture up to 10 Dall's porpoise (Phocoenoides dalli) annually in Oregon and Washington, attach radio-telemetry devices and biopsy sample to investigate three hypotheses: (1) duration of tag attachment is associated with tag attachment configuration; (2) differences exist between sex and age classes of Dall's porpoise in the timing or extent of seasonal migrations from inland WA waters; and (3) Dall's porpoise primarily occupy and utilize deeper regions of transboundary waters.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of this application and amendment request to the Marine Mammal Commission and its Committee of Scientific Advisors.

Dated: April 19, 2002.
Ann D. Terbush,
Chief, Permits, Conservation and Education Division, Office of Protected Resources, National Marine Fisheries Service.

[FR Doc. 02-10209 Filed 4-24-02; 8:45 am]

BILLING CODE 3510-22-S